DEPARTMENT OF HOMELAND SECURITY

Coast Guard

33 CFR Part 117

[CGD08-03-050]

RIN 1625-AA09

Drawbridge Operating Regulation; Upper Mississippi River, Louisiana, Missouri

AGENCY: Coast Guard, DHS.

ACTION: Notice of temporary deviation from regulations.

SUMMARY: The Commander, Eighth Coast Guard District has issued a temporary deviation from the regulation governing the operation of the Louisiana Railroad Drawbridge, across the Upper Mississippi River, mile 282.1, at Louisiana, Missouri. This deviation allows the drawbridge to remain closed to navigation for 46 days from 8 a.m., January 15, 2004, until 8 a.m., February 29, 2004, Central Standard Time. The deviation will facilitate maintenance work on the bridge that is essential to the continued safe operation of the drawbridge.

DATES: This temporary deviation is effective from 8 a.m., January 15, 2004, until 8 a.m., February 29, 2004.

ADDRESSES: Materials referred to in this notice are available for inspection or copying at the office of the Eighth Coast Guard District, Bridge Administration Branch, Commander (obr), Eighth Coast Guard District, 1222 Spruce Street, St. Louis, MO 63103-2832, between 8 a.m. and 4 p.m., Monday through Friday, except Federal holidays. The Bridge Administration Branch maintains the public docket for this temporary deviation.

FOR FURTHER INFORMATION CONTACT: Roger K. Wiebusch, Bridge Administrator, Commander (obr), Eighth Coast Guard District, 1222 Spruce Street, St. Louis, MO 63103-2832, (314) 539-3900, extension 2378.

SUPPLEMENTARY INFORMATION: The Kansas City Southern Railway Company requested a temporary deviation on December 15, 2003 for the operation of the drawbridge to allow the bridge owner time for preventative maintenance. Presently, the draw opens on signal for passage of river traffic. This deviation allows the bridge to remain closed to navigation for 46 days from 8 a.m., January 15, 2004, until 8 a.m., February 29, 2004, Central Standard Time. Vessels not exceeding the vertical clearance of the drawbridge may pass under the drawbridge during repairs. There are no alternate routes for vessels transiting through mile 282.1, Upper Mississippi River.

The Louisiana Railroad Drawbridge provides a vertical clearance of 15.8 feet above normal pool in the closed to navigation position. Navigation on the waterway consists primarily of commercial tows and recreational watercraft. In order to repair the four large wedge cylinders, the bridge must be kept inoperative and in the closed to navigation position. This deviation has been coordinated with waterway users. No objections were received.

In accordance with 33 CFR 117.35(c), this work will be performed with all due speed in order to return the bridge to normal operation as soon as possible. This deviation from the operating regulations is authorized under 33 CFR 117.35.

Dated: January 20, 2004.
Roger K. Wiebusch,
Bridge Administrator.

[FR Doc. 04-1643 Filed 1-26-04; 8:45 am]

BILLING CODE 4910-15-P